DEPARTMENT OF THE INTERIOR

National Park Service

[NPS-WASO-PPWOVPADH0-32572; PPMPRHS1Y.Y00000]

Notice of Availability and Request for Comments on Draft Director's Order #83A Concerning National Park Service Policies and Procedures Governing Public Health Protection and Disease Prevention

AGENCY: National Park Service, Interior.

ACTION: Notice of availability.

SUMMARY: The National Park Service (NPS) has prepared Director's Order #83A to set forth its policies and procedures to protect the health of visitors, employees, contractors, and partners in national parks and facilities operated by the NPS. Once adopted, the policies and procedures in Director's Order #83A and the accompanying Reference Manual 83A (RM-83A) will supersede and replace the policies and procedures issued in Director's Order #83: Public Health, dated October 21, 2004.

DATES: Written comments will be accepted until March 1, 2023.

ADDRESSES: Draft Director's Order #83A is available online at: https://forms.office.com/g/JguB44hEu8 where readers may submit comments electronically.

FOR FURTHER INFORMATION CONTACT: CAPT Sara Newman, Director, Office of Public Health, National Park Service, at sara_newman@nps.gov, or by telephone at 202-513-7225.

SUPPLEMENTARY INFORMATION: The NPS is updating its current system of internal written instructions. When these documents contain new policy or procedural requirements that may affect parties outside the NPS, they are first made available for public review and comment before being adopted. Director's Order #83A and a reference manual (subsequent to the Director's Order) will be issued. The draft Director's Order provides direction to NPS and U.S. Public Health Service managers and employees who are responsible for protecting public health; guidance for NPS administration of Federal, State, and local public health laws, regulations, and ordinances; and requirements and procedures for reporting, investigating, and responding to infectious disease outbreaks and other public health emergencies.

Public Disclosure of Comments: Before including your address, telephone number, email address, or other personal identifying information in your comment, you should be aware that your entire comment—including your personal identifying information—may be made publicly available at any time. While you may ask us in your comment to withhold your personal identifying information from public review, we cannot guarantee that we will be able to do so.

Authority: 54 U.S.C. 100101(a) et seq.

Alma Ripps,
Chief, Office of Policy.

[FR Doc. 2023-01752 Filed 1-27-23; 8:45 am]

BILLING CODE 4312-52-P